DEPARTMENT OF TRANSPORTATION

Federal Highway Administration

Environmental Impact Statement: Wiscasset and Edgecomb, Lincoln County, ME

AGENCY: Federal Highway Administration (FHWA), DOT.

ACTION: Notice of Intent to Terminate (Withdraw) EIS.

SUMMARY: The FHWA is issuing this notice to advise the public that the Environmental Impact Statement (EIS) process for a proposed highway project in the Towns of Wiscasset and Edgecomb, Lincoln County, Maine is terminated. The original Notice of Intent for this EIS process was published in the Federal Register on July 29, 2002.

FOR FURTHER INFORMATION CONTACT: Mark Hasselmann, Right of Way and Environmental Programs Manager, Federal Highway Administration, Maine Division, 40 Western Avenue, Augusta, Maine 04330, Telephone (207) 622-8350, extension 103; or Gerry Audibert, P.E., Project Manager, Maine Department of Transportation, State House Station 16, Augusta, Maine 04333-0016, Telephone (207) 624-3000.

SUPPLEMENTARY INFORMATION: The FHWA, in cooperation with the Maine Department of Transportation (MaineDOT), has terminated the EIS process begun in 2002. Work on the EIS is being discontinued due to findings that were identified during the National Environmental Policy Act (NEPA) process. In particular, the preferred alternative could no longer be considered by the U.S. Army Corps of Engineers (USACE) as the Least Environmentally Damaging Practicable Alternative (LEDPA) and there was a lack of community support. Therefore, the EIS for this project has been terminated.

(Catalog of Federal Domestic Assistance Program Number 20.205, Highway Planning and Construction. The regulations implementing Executive Order 12372 regarding intergovernmental consultation on Federal programs and activities apply to this program.)

Authority: 23 U.S.C. 315; 49 CFR 1.48.

Issued on: May 14, 2012.
Todd D. Jorgensen,
Division Administrator, Federal Highway Administration, Augusta, Maine.

[FR Doc. 2012-12052 Filed 5-18-12; 8:45 am]

BILLING CODE 4910-22-M